DEPARTMENT OF COMMERCE

Foreign-Trade Zones Board

Order No. 1589

Expansion of Foreign-Trade Zone 235

Lakewood, New Jersey

Pursuant to its authority under the Foreign-Trade Zones Act of June 18, 1934, as amended (19 U.S.C. 81a-81u), the Foreign-Trade Zones Board (the Board) adopts the following Order:

WHEREAS, the Township of Lakewood, New Jersey, grantee of Foreign-Trade Zone 235, submitted an application to the Board for authority to expand its zone to include four sites in Middlesex County at the Cranbury Business Park (Site 3 - 351 acres) in Cranbury, at the ProLogis Park-South Brunswick (Site 4 - 50 acres) in Jamesburg, at the Middlesex Center (Site 5 - 159 acres) in South Brunswick, and at EastPointe Property (Site 6 - 35 acres) in South Brunswick, New Jersey, adjacent to the Philadelphia Customs and Border Protection port of entry (FTZ Docket 43-2007, filed 8/24/07, amended 5/22/08);

WHEREAS, notice inviting public comment was given in the Federal Register (72 FR 51406, 9/7/07; 73 FR 31432, 6/2/08) and the application has been processed pursuant to the FTZ Act and the Board's regulations; and,

WHEREAS, the Board adopts the findings and recommendations of the examiner's report, and finds that the requirements of the FTZ Act and Board's regulations are satisfied, and that the proposal, as amended, is in the public interest;

NOW, THEREFORE, the Board hereby orders:

The application, as amended, to expand FTZ 235 is approved, subject to the FTZ Act and the Board's regulations, including Section 400.28, subject to the Board's standard 2,000-acre activation limit for the overall general-purpose zone project, and further subject to a sunset provision that would terminate authority on November 30, 2013, for Sites 3 - 6 where no activity has occurred under FTZ procedures before that date.

Signed at Washington, DC, this 20th day of November 2008.

David M. Spooner.
Assistant Secretary of Commerce for Import Administration.
Alternate Chairman, Foreign-Trade Zones Board.
ATTEST:
Andrew McGilvray,
Executive Secretary.

[FR Doc. E8-28877 Filed 12-4-08; 8:45 am]

BILLING CODE 3510-DS-S